FEDERAL EMERGENCY MANAGEMENT AGENCY

44 CFR Part 67

[Docket No. FEMA-7318]

Proposed Flood Elevation Determinations

AGENCY: Federal Emergency Management Agency (FEMA).

ACTION: Proposed rule.

SUMMARY: Technical information or comments are requested on the proposed base (1-percent-annual-chance) flood elevations and proposed base flood elevation modifications for the communities listed below. The base flood elevations and modified base flood elevations are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed base flood elevations for each community are available for inspection at the office of the Chief Executive Officer of each community. The respective addresses are listed in the table below.

FOR FURTHER INFORMATION CONTACT: Matthew B. Miller, P.E., Chief, Hazards Study Branch, Mitigation Directorate, 500 C Street SW, Washington, DC 20472; (202) 646-3461, or (e-mail) matt.miller@fema.gov.

SUPPLEMENTARY INFORMATION: The Federal Emergency Management Agency proposes to make determinations of base flood elevations and modified base flood elevations for each community listed below, in accordance with Section 110 of the Flood Disaster Protection Act of 1973, 42 U.S.C. 4104, and 44 CFR 67.4(a).

These proposed base flood and modified base flood elevations, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

National Environmental Policy Act

This proposed rule is categorically excluded from the requirements of 44 CFR Part 10, Environmental Consideration. No environmental impact assessment has been prepared.

Regulatory Flexibility Act

The Associate Director for Mitigation certifies that this proposed rule is exempt from the requirements of the Regulatory Flexibility Act because proposed or modified base flood elevations are required by the Flood Disaster Protection Act of 1973, 42 U.S.C. 4104, and are required to establish and maintain community eligibility in the NFIP. No regulatory flexibility analysis has been prepared.

Regulatory Classification

This proposed rule is not a significant regulatory action under the criteria of Section 3(f) of Executive Order 12866 of September 30, 1993, Regulatory Planning and Review, 58 FR 51735.

Executive Order 12612, Federalism

This proposed rule involves no policies that have federalism implications under Executive Order 12612, Federalism, dated October 26, 1987.

Executive Order 12778, Civil Justice Reform

This proposed rule meets the applicable standards of Section 2(b)(2) of Executive Order 12778.

List of Subjects in 44 CFR Part 67

Administrative practice and procedure, Flood insurance, Reporting and recordkeeping requirements.

Accordingly, 44 CFR Part 67 is proposed to be amended as follows:

PART 67—[Amended]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

State | City/town/county | Source of flooding | Location | # Depth in feet above ground. *Elevation in feet. (NGVD): Existing | # Depth in feet above ground. *Elevation in feet. (NGVD): Modified
Alaska | Matanuska-Susitna Borough | Talkeetna River Overflow | Just west of Talkeetna Spur Highway | None | *341
|  |  | At East Bank of Talkeetna River | None | *351
Maps are available for inspection at the Code Compliance Department, 350 East Dahlia Avenue, Palmer, Alaska.
Send comments to The Honorable Darcie Salmon, Mayor, Matanuska-Susitna Borough, 350 East Dahlia Avenue, Palmer, Alaska 99645.
Colorado | Durango (City) La Plata County | Animas River | Approximately 0.67 mile downstream of U.S. Highway 155/160 | None | *6,375
|  |  | Approximately 3.56 miles upstream of 32nd Street | None | *6,551
|  | Dry Gulch | Approximately 1,500 feet upstream of confluence with Junction Creek | *6,626 | *6,628
|  |  | Approximately 5,670 feet upstream of Borrego Drive | None | *6,873
|  | Lightner Creek | At confluence with Animas River | None | *6,485
|  |  | Approximately 1,800 feet upstream of confluence with Animas River | None | *6,513
Maps are available for inspection at the Planning Department, 1235 Camino Del Rio, Durango, Colorado.
Send comments to The Honorable Joe Colgan, Mayor, City of Durango, 949 East 2nd Avenue, Durango, Colorado 81301.
Texas | Dallas County and Incorporated Areas | Trinity River | Approximately 2,500 feet downstream of Dowdy Ferry Road | *394 | *394
|  |  | At Loop 12 | *402 | *403
|  |  | At confluence of West Fork and Elm Fork Trinity River | *423 | *423
|  | West Fork Trinity River | At confluence with Elm Fork Trinity River | *423 | *423
|  |  | Just downstream of Belt Line Road | *439 | *440
|  |  | Approximately 11,000 feet upstream of State Route 360 | *464 | *465
|  | Elm Fork Trinity River | At confluence with West Fork Trinity River | *424 | *423
|  |  | Just downstream of Valley View Lane | *436 | *435
|  |  | Approximately 13,000 feet upstream of the confluence of Indian Creek | *454 | *454
|  | Tenmile Creek | Just upstream of abandoned Watermill Road | *440 | *440
|  |  | Approximately 300 feet downstream of Interstate Highway 35 | *529 | *529
|  |  | At Westmoreland Road | *583 | *584
|  |  | Approximately 300 feet downstream of Cockrell Hill Road | *599 | *599
|  | Long Branch of Muddy Creek | Approximately 1,200 feet upstream of Gulf, Colorado, and Santa Fe Railroad | *520 | *520
|  |  | Approximately 1,200 feet downstream of Dewitt Road | *530 | *530
|  | Indian Creek | Approximately 800 feet downstream of Paige Road | None | *532
|  |  | Approximately 2,300 feet upstream of Paige Road | None | *542
|  | Cottonwood Creek of Grand Prairie | At confluence with Mountain Creek/Mountain Creek Lake | *458 | *458
|  |  | Approximately 2,000 feet downstream of SE 14th Street (Fish Creek Road) | *458 | *459
|  |  | Approximately 150 feet downstream of SE 8th Street | *458 | *470
|  | Bear Creek | Approximately 2,850 feet downstream of County Road | None | *521
Maps are available for inspection at City Hall, 105 Cockrell Road, Ovilla, Texas.
Send comments to The Honorable Cindy Jones, Mayor, 105 S. Cockrell Road, Ovilla, Texas 75154.
Maps are available for inspection at the County Administration Building, 411 Elm, 4th Floor, Dallas, Texas.
Send comments to The Honorable Lee Jackson, Judge, Dallas County, 411 Elm Street, Dallas, Texas 75202.
Maps are available for inspection at City Hall, Public Works Department, 1945 East Jackson, Carrollton, Texas.
Send comments to The Honorable Milburn Gravely, Mayor, City of Carrollton, 1945 Jackson Road, Carrollton, Texas 75006.
Maps are available for inspection at City Hall, Engineering Department, 255 Parkway Boulevard, Coppell, Texas.
Send comments to The Honorable Jim Witt, City Manager, City of Coppell, 255 Parkway Boulevard, Coppell, Texas 75019.
Maps are available for inspection at Oak Cliff Municipal Center, Floodplain Management and Erosion Control, 320 East Jefferson, Room 321, Dallas (Oak Cliff), Texas 75201.
Send comments to The Honorable Ron Kirk, Mayor, City of Dallas, 1500 Marilla, Dallas, Texas 75201.
Maps are available for inspection at City Hall, Development Services, 211 East Pleasant run Road, De Soto, Texas.
Send comments to The Honorable Richard Rozier, Mayor, City of DeSoto, 211 East Pleasant Run Road, DeSoto, Texas 75115.
Maps are available for inspection at City Hall, Public Works, 203 East Wheatland Road, Duncanville, Texas.
Send comments to The Honorable Glenn Repp, Mayor, City of Duncanville, 203 East Wheatland Road, Duncanville, Texas 75116.
Maps are available for inspection at City Hall, Engineering Department, 13000 William Dodson Parkway, Farmers Branch, Texas.
Send comments to The Honorable Richard Escalante, City Manager, City of Farmers Branch, P.O. Box 819010, Farmers Branch, Texas 75381.
Maps are available for inspection at the Engineering Department, 206 West Church, Grand Prairie, Texas.
Send comments to The Honorable Tom Hart, City Manager, City of Grand Prairie, 206 West Church Street, Grand Prairie, Texas 75053-0011.
| Denton County and Incorporated Areas | Denton Creek (Below Grapevine Lake) | At confluence with Elm Fork of Trinity River | *446 | *445
|  |  | Approximately 6,400 feet Upstream of confluence with Elm Fork of Trinity River | *446 | *445
|  |  | Approximately 26,000 feet Upstream of confluence with Elm Fork of Trinity River | *455 | *455
|  | Dudley Branch | Approximately 50 feet upstream from confluence with Elm Fork of Trinity River | *451 | *451
|  |  | Approximately 425 feet upstream of the Missouri-Kansas-Texas Railroad | *451 | *452
|  |  | Approximately 750 feet downstream from Eisenhower Street | *452 | *453
|  |  | At Eisenhower Street | *457 | *457
|  | Elm Fork of Trinity River West Split Flow Area | At confluence with Elm Fork of Trinity River | *454 | *453
|  |  | At divergence from Elm Fork of Trinity River | *459 | *457
|  | Elm Fork of Trinity River (Below Lewisville Lake) | Approximately 1,050 feet downstream from confluence with Timber Creek | *449 | *449
|  |  | Approximately 300 feet downstream from Interstate 35 | *451 | *450
|  |  | At State Route 121 | *461 | *462
|  |  | At Atchison, Topeka and Santa Fe Railway | *463 | *462
|  | Indian Creek (At Grapevine Lake) | At confluence with Elm Fork of Trinity River | *453 | *452
|  |  | Approximately 7,000 feet upstream of confluence with Elm Fork of Trinity River | *453 | *452
|  |  | Approximately 700 feet upstream of West Hebron Parkway | *462 | *462
|  | Lake Lewisville Spillway | At confluence with Elm Fork of Trinity River | *461 | *462
|  |  | Approximately 2,400 feet upstream of confluence with Elm Fork of Trinity River | *461 | *462
|  |  | Approximately 5,500 feet upstream of State Route 12 | *482 | *482
|  | Timber Creek | At confluence with Elm Fork of Trinity River | *450 | *449
|  |  | Approximately 900 feet upstream of Pound Grove Road | *454 | *453
|  |  | Approximately 2,500 feet upstream of Interstate Route 35E | *463 | *463
Maps are available for inspection at the Planning Department, 306 North Loop 288, Denton, Texas.
Send comments to the Honorable Jeff Moseley, Denton County Judge, 110 West Hickory, Denton, Texas 76201.
Maps are available for inspection at the Engineering Department, 1197 West Main, 2nd Floor, Lewisville, Texas.
Send comments to the Honorable Claude King, City Manager, City of Lewisville, 1197 West Main @ Civic Center, Lewisville, Texas 75029-9002
Washington | Castle Rock (City) Cowlitz County | Cowlitz River | Approximately 14,500 feet downstream of State Highway 10 | *39 | *43
|  |  | Approximately 2,700 feet upstream of State Highway 10 | *49 | *49
Maps are available for inspection at City Hall, 141 A Street, SW, Castle Rock, Washington.
Send comments to the Honorable Barbara Larsen, Mayor, City of Castle Rock, P.O. Box 370, Castle Rock, Washington 98611.
| Cowlitz County (unincorporated areas) | Cowlitz River | At confluence with Columbia River | *17 | *18
|  |  | Approximately 3 miles upstream of the confluence of the Toutle River | None | *62
|  | Toutle River | At confluence with Cowlitz River | *56 | *58
|  |  | Immediately downstream of Burlington Northern Railroad | *58 | *58
|  | Arkansas Creek |  | *45 | *48
|  |  | At confluence with Cowlitz River | *48 | *48
|  | Ostrander Creek | Approximately 0.3 mile downstream of Delameter Road | *25 | *33
|  |  | Just downstream of Burlington Northern Railroad At Ostrander Road | *33 | *33
|  | Coweman River (Lower Reach near Kelso) | Approximately 1.5 miles upstream of confluence with Cowlitz River | *17 | *19
|  |  | Approximately 4.3 miles upstream of confluence with Cowlitz River | *19 | *19
Maps are available for inspection at the Planning Department, County Courthouse, 207 4th Avenue N., Kelso, Washington.
Send comments to the Honorable Bill Lehning, Chairman of the Board of Commissioners, 207 4th Avenue North, Kelso, Washington 98626.
| Kelso (City) Cowlitz County | Cowlitz River | At confluence with Columbia River | *17 | *18
|  |  | Approximately 4,500 feet upstream of Cowlitz Way | *21 | *27
|  | Coweman River | At confluence with Cowlitz River | *17 | *19
|  |  | Approximately 1.6 miles upstream of Kelso Drive | *18 | *19
Maps are available for inspection at the Mayor and Council Office, 105 Allen Street, Kelso, Washington.
Send comments to the Honorable Keith Lawrence, Mayor, City of Kelso, 105 Allen Street, Kelso, Washington 98626.
| Longview (City) Cowlitz County | Cowlitz River | At State Route 43Z | *17 | *19
|  |  | Approximately 4,500 feet upstream of Cowlitz Way | *21 | *27
Maps are available for inspection at the Planning and Building Department, 1525 Broadway, Longview, Washignton.
Send comments to the Honorable Ramona Leber, Mayor, City of Longview, P.O. Box 128, Longview, Washignton 98632.
Wyoming | Sheridan (City) Sheridan County | Big Goose Creek | Approximately 1.66 miles upstream of Works Street | *3,768 | *3,768
|  |  | Approximately 4 miles upstream of Works Street | None | *3,800
|  | Little Goose Creek | Approximately 1,250 feet downstream of Brundage Lane | *3,782 | *3,782
|  |  | Just upstream of County Road 66 | None | *3,836
Maps are available for inspection at the City of Sheridan Planning Department, 55 East Grinnell Avenue, Sheridan, Wyoming.
Send comments to the Honorable Jim Wilson, Mayor, City of Sheridan, 55 East Grinnel Avenue, Sheridan, Wyoming 82801.

(Catalog of Federal Domestic Assistance No. 83.100, “Flood Insurance”)
Dated: May 17, 2000.
Michael J. Armstrong,
Associate Director for Mitigation.

[FR Doc. 00-13996 Filed 6-2-00; 8:45 am]

BILLING CODE 6718-04-P